FEDERAL COMMUNICATIONS COMMISSION

Notice of Public Information Collection(s) Being Reviewed by the Federal Communications Commission

June 7, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 15, 2002. If you anticipate that you will be submitting comments, but find it difficult to do so within the period of time allowed by this notice, you should advise the contact listed below as soon as possible.

ADDRESSES: Direct all comments to Judith Boley Herman, Federal Communications Commission, Room 1-C804, 445 12th Street, SW., DC 20554 or via the Internet to jboley@fcc.gov.

FOR FURTHER INFORMATION CONTACT: For additional information or copies of the information collection(s), contact Judith Boley Herman at 202-418-0214 or via the Internet at jboley@fcc.gov.

SUPPLEMENTARY INFORMATION: OMB Control No.: 3060-1004.

Title: Orders Re: E911 Act.

Form No.: N/A.

Type of Review: Extension of a currently approved collection.

Respondents: Business or other for-profit, state, not-for-profit institutions, and state, local or tribal governments.

Number of Respondents: 6 respondents; 22 responses.

Estimated Time Per Response: 5 hours.

Frequency of Response: Recordkeeping requirement, quarterly, semi-annual reporting requirement.

Total Annual Burden: 110 hours.

Total Annual Cost: N/A.

Needs and Uses: The quarterly and supplemental reports will be used by the Commission to monitor carrier progress of Phase I and Phase II deployment in transition to E911, and to facilitate the prompt enforcement of the E911 implementation milestones and other requirements of the plans. This will ensure that this important effort will continue in an orderly and timely fashion. The Commission is seeking the full three-year OMB approval for this collection of information.

OMB Control No.: 3060-1008.

Title: Reallocation and Service Rules for the 698-746 MHz Band (Television Channels 52-59).

Form No.: N/A.

Type of Review: Extension of a currently approved collection.

Respondents: Business or other for-profit, and state, local or tribal governments.

Number of Respondents: 734.

Estimated Time Per Response: .084 hours (five minutes).

Frequency of Response: Recordkeeping requirement, on occasion reporting requirement, and third party disclosure requirement.

Total Annual Burden: 367 hours.

Total Annual Cost: N/A.

Needs and Uses: The Commission adopted allocation and service rules for the 698-746 MHz spectrum band which is being reallocated pursuant to statutory requirements. The Commission took this action to support the development of new services in the lower 700 MHz band, and to protect existing television operations that will occupy the band throughout the transition to digital television.

Section 27.50(c)(5) provides that licensees intending to operate a base or fixed station at a power level greater than 1 kW ERP must provide advanced notice of such operation to the Commission and to licensees authorized in their area of operation. Notices must provide the location and operating parameters of the base or fixed station operating at a power level greater than 1 kW ERP, including the station's ERP, antenna coordinates, antenna height above ground, and vertical antenna pattern, and such notices must be provided at least 90 days prior to the commencement of station operation. The service rules have been designed to promote the development and rapid deployment of new technologies, products, and services for the benefit of the public; to promote economic opportunity and competition; and to create the efficient and intensive use of the spectrum by promoting the objectives identified in 47 U.S.C. 309(j).

Federal Communications Commission.
Marlene H. Dortch,
Secretary.

[FR Doc. 02-15083 Filed 6-13-02; 8:45 am]

BILLING CODE 6712-01-P